DEPARTMENT OF ENERGY

Federal Energy Regulatory Commission

[Docket No. CP12-158-000]

UGI Storage Company; Notice of Request Under Blanket Authorization

Take notice that on April 18, 2012 UGI Storage Company (UGI Storage), One Meridian Boulevard, Suite 2C01, Wyomissing, Pennsylvania 19610, filed in the above Docket, a prior notice request pursuant to sections 157.205, 157.208 and 157.210 of the Commission's regulations under the Natural Gas Act (NGA), for authorization to construct and operate approximately 3,450 horsepower (hp) of gas fired compression at its existing Palmer Station in Tioga County, Pennsylvania, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

UGI Storage proposes to construct two 1,380 hp compressor units and one 690 hp unit at the Palmer Station located at the downstream terminus of the TL-94 pipeline. UGI Storage states that the additional facilities will allow UGI Storage to receive gas for storage from Tennessee Gas Pipeline Company and local production on a firm basis and facilitate additional wheeling services. UGI Storage states that the proposed compression will not change the certificated parameters of its existing Tioga Storage Complex.

Any questions concerning this application may be directed to Jeffrey England, Project Engineer, UGI Energy Services, Inc., One Meridian Boulevard, Suite 2C01, Wyomissing, Pennsylvania 19610 at (610) 373-7999 extension 222, or by facsimile at (610) 374-4288, or by email at jengland@ugies.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commenter will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link.

Dated: April 26, 2012.
Kimberly D. Bose,
Secretary.

[FR Doc. 2012-10778 Filed 5-3-12; 8:45 am]

BILLING CODE 6717-01-P